DEPARTMENT OF TRANSPORTATION

Federal Aviation Administration

14 CFR Part 39

[Docket No. FAA-2021-0027; Project Identifier MCAI-2021-00048-R; Amendment 39-21425; AD 2021-04-04]

RIN 2120-AA64

Airworthiness Directives; Airbus Helicopters

AGENCY: Federal Aviation Administration (FAA), DOT.

ACTION: Final rule; request for comments.

SUMMARY: The FAA is superseding Airworthiness Directive (AD) 2020-19-02, which applied to certain Airbus Helicopters (previously Eurocopter France) Model SA330J helicopters. AD 2020-19-02 required repetitively inspecting affected tail rotor (T/R) blades and depending on the inspection results, repairing or replacing the T/R blade. AD 2020-19-02 also prohibited installing an affected T/R blade unless it passed the inspections. This AD retains the requirements of AD 2020-19-02 and also clarifies the applicability, clarifies the affected T/R blades in the required actions, reduces a compliance time, and corrects the prohibition requirement. This AD was prompted by the determination that these corrections are necessary. The FAA is issuing this AD to address the unsafe condition on these products.

DATES: This AD becomes effective March 1, 2021.

The Director of the Federal Register approved the incorporation by reference of a certain document listed in this AD as of October 7, 2020 (85 FR 59416, September 22, 2020).

The FAA must receive comments on this AD by March 29, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact Airbus Helicopters, 2701 N Forum Drive, Grand Prairie, TX 75052; telephone 972-641-0000 or 800-232-0323; fax 972-641-3775; or at https://www.airbus.com/helicopters/services/technical-support.html. You may view this service information at the FAA, Office of the Regional Counsel, Southwest Region, 10101 Hillwood Pkwy., Room 6N-321, Fort Worth, TX 76177. For information on the availability of this material at the FAA, call (817) 222-5110. It is also available at https://www.regulations.gov by searching for and locating Docket No. FAA-2021-0027.

Examining the AD Docket

You may examine the AD docket at https://www.regulations.gov by searching for and locating Docket No. FAA-2021-0027; or in person at Docket Operations between 9 a.m. and 5 p.m., Monday through Friday, except Federal holidays. The AD docket contains this final rule, the European Aviation Safety Agency (now European Union Aviation Safety Agency) (EASA) AD, any comments received, and other information. The street address for Docket Operations is listed above.

FOR FURTHER INFORMATION CONTACT: Matt Fuller, AD Program Manager, General Aviation & Rotorcraft Unit, Airworthiness Products Section, Operational Safety Branch, FAA, 10101 Hillwood Pkwy., Fort Worth, TX 76177; telephone (817) 222-5110; email matthew.fuller@faa.gov.

SUPPLEMENTARY INFORMATION:

Background

The FAA issued AD 2020-19-02, Amendment 39-21243 (85 FR 59416, September 22, 2020) (AD 2020-19-02), for certain Airbus Helicopters (previously Eurocopter France) Model SA330J helicopters. AD 2020-19-02 required, for each T/R blade part number (P/N) 330A12-0005-(all dash numbers) and 330A12-0006-(all dash numbers), repetitively accomplishing a visual and in-depth inspection for debonding and eddy current inspecting for a crack. If there was debonding within allowable limits, AD 2020-19-02 required repairing or replacing the T/R blade. If there was debonding that exceeded allowable limits or a crack, AD 2020-19-02 required replacing the T/R blade. AD 2020-19-02 also prohibited installing an affected T/R blade unless it passed the inspections. AD 2020-19-02 was prompted by EASA AD No. 2016-0059-E, dated March 22, 2016 (EASA AD 2016-0059-E), issued by the EASA, which is the Technical Agent for the Member States of the European Union, to correct an unsafe condition for Airbus Helicopters (formerly Eurocopter, Eurocopter France, Aerospatiale) Model SA 330 J helicopters. EASA AD 2016-0059-E retains the requirements of Direction Générale de l'Aviation Civile (DGAC) France AD 87-032-052(B)R3, dated January 23, 1991, which it supersedes, and also mandates improved service instructions. EASA advises of two reports of cracked metal T/R blade skin, which subsequently led to rotor blade vibrations and forced landing of the helicopter. According to EASA, this condition, if not addressed, could result in additional occurrences of T/R blade structural damage, possibly resulting in significant vibrations and reduced control of the helicopter.

Actions Since AD 2020-19-02 Was Issued

Since the FAA issued AD 2020-19-02, it was identified that the compliance time for the initial visual inspection of T/R blade P/N 330A12-0006-(all dash numbers) (with a de-icing system) was inadvertently stated as within 30 hours time-in-service (TIS). This final rule corrects this compliance time to within 15 hours TIS.

Since the FAA issued AD 2020-19-02, it was also identified that the parts prohibition requirement could cause confusion about when the inspections must be accomplished prior to installation. This final rule clarifies this.

Additionally, this final rule clarifies the applicability by identifying that T/R blade P/N 330A12-0005-(all dash numbers) is without a de-icing system installed and that T/R blade P/N 330A12-0006-(all dash numbers) is with a de-icing system installed. This final rule also clarifies the required actions by adding the P/Ns.

FAA's Determination

These helicopters have been approved by EASA and are approved for operation in the United States. Pursuant to the FAA's bilateral agreement with the European Union, EASA has notified the FAA about the unsafe condition described in its AD. The FAA is proposing this AD after evaluating all known relevant information and determining that the unsafe condition described previously is likely to exist or develop on other helicopters of the same type design.

Related Service Information Under 1 CFR Part 51

The FAA reviewed Airbus Helicopters Emergency Alert Service Bulletin No. 05.101, Revision 0, dated March 21, 2016, for Model SA330J helicopters with certain T/R blades with and without a de-icing system installed. This service information specifies procedures for a visual and in-depth inspection of the T/R blades for skin debonding and an eddy current inspection of the T/R blades for a crack using various crack detectors.

This service information is reasonably available because the interested parties have access to it through their normal course of business or by the means identified in the ADDRESSES section.

AD Requirements

This AD requires, for T/R blade P/N 330A12-0006-(all dash numbers) (with a de-icing system), within 15 hours TIS after the effective date of this AD or within 15 hours TIS after last inspecting the T/R blade as required by paragraph (f)(1) of AD 2020-19-02, whichever occurs first, and thereafter at intervals not to exceed 15 hours TIS; and for T/R blade P/N 330A12-0005-(all dash numbers) (without a de-icing system), within 30 hours TIS after the effective date of this AD, or within 30 hours TIS after last inspecting the T/R blade as required by paragraph (f)(1) of AD 2020-19-02, whichever occurs first, and thereafter at intervals not to exceed 30 hours TIS:

• Accomplishing a visual and in-depth inspection of each T/R blade for debonding. If there is debonding within allowable limits, this AD requires repairing or replacing the T/R blade. If there is debonding that exceeds allowable limits, this AD requires replacing the T/R blade.

• Eddy current inspecting each T/R blade for a crack. If there is a crack, this AD requires replacing the T/R blade.

This AD also prohibits installing an affected T/R blade on any helicopter unless it passes the inspections required by this AD.

Differences Between This AD and the EASA AD

The EASA AD requires returning a T/R blade with a discrepancy to Airbus Helicopters; whereas this AD requires repairing or replacing the T/R blade if there is debonding within allowable limits and replacing the T/R blade if there is debonding that exceeds allowable limits or a crack instead.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule because the initial instance of the repetitive inspections must be completed within 15 or 30 hours TIS, a time period of up to approximately two months based on the average flight-hour utilization rates of these helicopters. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Comments Invited

The FAA invites you to send any written data, views, or arguments about this final rule. Send your comments to an address listed under ADDRESSES. Include “Docket No. FAA-2021-0027; Project Identifier MCAI-2021-00048-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Matt Fuller, AD Program Manager, General Aviation & Rotorcraft Unit, Airworthiness Products Section, Operational Safety Branch, FAA, 10101 Hillwood Pkwy., Fort Worth, TX 76177; telephone (817) 222-5110; email matthew.fuller@faa.gov. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 17 helicopters of U.S. Registry. Labor rates are estimated at $85 per work-hour. Based on these numbers, the FAA estimates the following costs to comply with this AD.

Inspecting the T/R blades for debonding takes about 0.75 work-hour for an estimated cost of $64 per helicopter and $1,088 for the U.S. fleet, per inspection cycle. Eddy current inspecting the T/R blades for a crack takes about 1.75 work-hours for an estimated cost of $149 per helicopter and $2,533 for the U.S. fleet, per inspection cycle.

If required, replacing a T/R blade takes about 4 work-hours and parts cost about $19,000, for an estimated cost of $19,340.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national Government and the States, or on the distribution of power and responsibilities among the various levels of government.

For the reasons discussed, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2020-19-02, Amendment 39-21243 (85 FR 59416, September 22, 2020); and

b. Adding the following new airworthiness directive:

2021-04-04 Airbus Helicopters: Amendment 39-21425; Docket No. FAA-2021-0027; Project Identifier MCAI-2021-00048-R.

(a) Effective Date

This airworthiness directive (AD) is effective March 1, 2021.

(b) Affected ADs

This AD replaces AD 2020-19-02, Amendment 39-21243 (85 FR 59416, September 22, 2020) (AD 2020-19-02).

(c) Applicability

This AD applies to Airbus Helicopters Model SA330J helicopters, certificated in any category, with a tail rotor (T/R) blade part number (P/N) 330A12-0005-(all dash numbers) (without a de-icing system) or 330A12-0006-(all dash numbers) (with a de-icing system), installed.

(d) Subject

Joint Aircraft Service Component (JASC) Code: 6410, Tail Rotor Blades.

(e) Unsafe Condition

This AD was prompted by two reports of cracked metal T/R blade skin. The FAA is issuing this AD to address fatigue cracking of a T/R blade. The unsafe condition, if not addressed, could result in failure of a T/R blade and subsequent loss of control of the helicopter.

(f) Compliance

Comply with this AD within the compliance times specified, unless already done.

(g) Required Actions

(1) For T/R blade P/N 330A12-0006-(all dash numbers) (with a de-icing system), within 15 hours time-in-service (TIS) after the effective date of this AD or within 15 hours TIS after last inspecting the T/R blade as required by paragraph (f)(1) of AD 2020-19-02, whichever occurs first, and thereafter at intervals not to exceed 15 hours TIS; and for T/R blade P/N 330A12-0005-(all dash numbers) (without a de-icing system), within 30 hours TIS after the effective date of this AD, or within 30 hours TIS after last inspecting the T/R blade as required by paragraph (f)(1) of AD 2020-19-02, whichever occurs first, and thereafter at intervals not to exceed 30 hours TIS:

(i) Inspect each T/R blade for debonding by following the visual and in-depth inspection procedures in the Accomplishment Instructions, paragraph 3.B.2., of Airbus Helicopters Emergency Alert Service Bulletin No. 05.101, Revision 0, dated March 21, 2016 (EASB 05.101). If there is debonding within allowable limits, before further flight, repair or replace the T/R blade. If there is debonding that exceeds allowable limits, before further flight, replace the T/R blade.

(ii) Eddy current inspect each T/R blade for a crack by following the Accomplishment Instructions, paragraph 3.B.3.a. of EASB 05.101, then either paragraph 3.B.3.b.1. or 3.B.3.b.2. of EASB 05.101 depending on your crack detector, and paragraph 3.B.3.c. of EASB 05.101 except the “if there are no cracks” and “if there are one or several cracks” steps. Instead of the “if there are no cracks” and “if there are one or several cracks” steps, if there is a crack, before further flight, replace the T/R blade.

(2) As of the effective date of this AD, do not install a T/R blade identified in paragraph (c) of this AD on any helicopter unless the actions of paragraphs (g)(1)(i) and (ii) of this AD have been accomplished.

(h) Alternative Methods of Compliance (AMOCs)

(1) The Manager, Strategic Policy Rotorcraft Section, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (i)(1) of this AD. Information may be emailed to: 9-ASW-FTW-AMOC-Requests@faa.gov.

(2) Before using any approved AMOC, notify your appropriate principal inspector, or lacking a principal inspector, the manager of the local flight standards district office/certificate holding district office.

(i) Related Information

(1) For more information about this AD, contact Matt Fuller, AD Program Manager, General Aviation & Rotorcraft Unit, Airworthiness Products Section, Operational Safety Branch, FAA, 10101 Hillwood Pkwy., Fort Worth, TX 76177; telephone (817) 222-5110; email matthew.fuller@faa.gov.

(2) The subject of this AD is addressed in European Aviation Safety Agency (now European Union Aviation Safety Agency) (EASA) AD No. 2016-0059-E, dated March 22, 2016. You may view the EASA AD on the internet at https://www.regulations.gov in Docket No. FAA-2021-0027.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on October 7, 2020 (85 FR 59416, September 22, 2020).

(i) Airbus Helicopters Emergency Alert Service Bulletin No. 05.101, Revision 0, dated March 21, 2016.

(ii) [Reserved]

(4) For Airbus Helicopters service information identified in this AD, contact Airbus Helicopters, 2701 N Forum Drive, Grand Prairie, TX 75052; telephone 972-641-0000 or 800-232-0323; fax 972-641-3775; or at https://www.airbus.com/helicopters/services/technical-support.html.

(5) You may view this service information at the FAA, Office of the Regional Counsel, Southwest Region, 10101 Hillwood Pkwy., Room 6N-321, Fort Worth, TX 76177. For information on the availability of this material at the FAA, call (817) 222-5110.

(6) You may view this service information that is incorporated by reference at the National Archives and Records Administration (NARA). For information on the availability of this material at NARA, email: fedreg.legal@nara.gov, or go to: https://www.archives.gov/federal-register/cfr/ibr-locations.html.

Issued on February 3, 2021.
Gaetano A. Sciortino,
Deputy Director for Strategic Initiatives, Compliance & Airworthiness Division, Aircraft Certification Service.

[FR Doc. 2021-03056 Filed 2-10-21; 2:00 pm]

BILLING CODE 4910-13-P